DEPARTMENT OF STATE

[Public Notice: 9742]

E.O. 13224 Designation of Anas El Abboubi, aka Anas el-Abboubi, aka Anas al-Abboubi, aka Anas Al-Italy, aka Abu Rawaha the Italian, aka Abu the Italian, aka Rawaha al Itali, aka Mc Khalifh, aka McKhalif, aka Mc Khaliph, aka Anas Shakur, aka Anas Abdu Shakur as a Specially Designated Global Terrorist

Acting under the authority of and in accordance with section 1(b) of Executive Order 13224 of September 23, 2001, as amended by Executive Order 13268 of July 2, 2002, and Executive Order 13284 of January 23, 2003, I hereby determine that the individual known as Anas El Abboubi, also known as Anas el-Abboubi, also known as Anas al-Abboubi, also known as Anas Al-Italy, also known as Abu Rawaha the Italian, also known as Abu the Italian, also known as Rawaha al Italy, also known as Mc Khalifh, also known as McKhalif, also known as Mc Khaliph, also known as Anas Shakur, also known as Anas Abdu Shakur, committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: September 8, 2016.
John F. Kerry,
Secretary of State.

[FR Doc. 2016-23715 Filed 9-29-16; 8:45 am]

BILLING CODE 4710-AD-P